DEPARTMENT OF COMMERCE

National Oceanic and Atmospheric Administration

50 CFR Part 679

[Docket No. 170817779-8161-02]

RIN 0648-XG572

Fisheries of the Exclusive Economic Zone Off Alaska; Several Groundfish Species in the Bering Sea and Aleutian Islands Management Area

AGENCY: National Marine Fisheries Service (NMFS), National Oceanic and Atmospheric Administration (NOAA), Commerce.

ACTION: Temporary rule; apportionment of reserves; request for comments.

SUMMARY: NMFS apportions amounts of the non-specified reserve to the initial total allowable catch (ITAC) and total allowable catch (TAC) of Aleutian Islands (AI) Greenland turbot, Bering Sea (BS) sablefish, Bering Sea and Aleutian Islands (BSAI) Alaska plaice, BSAI northern rockfish, BSAI “other flatfish,” BSAI shortraker rockfish, BSAI sculpins, BSAI skates, and Central and Western Aleutian Islands (CAI/WAI) blackspotted/rougheye rockfish in the BSAI management area. This action is necessary to allow the fisheries to continue operating. It is intended to promote the goals and objectives of the fishery management plan for the BSAI management area.

DATES: Effective November 1, 2018 through 2400 hrs, Alaska local time, December 31, 2018. Comments must be received at the following address no later than 4:30 p.m., Alaska local time, November 16, 2018.

ADDRESSES: Submit your comments, identified by NOAA-NMFS-2017-0108, by either of the following methods:

• Electronic Submission: Submit all electronic public comments via the Federal e-Rulemaking Portal. Go to https://www.regulations.gov/docket?D=NOAA-NMFS-2017-0108, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: NMFS may not consider comments if they are sent by any other method, to any other address or individual, or received after the comment period ends. All comments received are a part of the public record and NMFS will post the comments for public viewing on www.regulations.gov without change. All personal identifying information (e.g., name, address, etc.), confidential business information, or otherwise sensitive information submitted voluntarily by the sender is publicly accessible. NMFS will accept anonymous comments (enter “N/A” in the required fields if you wish to remain anonymous).

FOR FURTHER INFORMATION CONTACT: Steve Whitney, 907-586-7228.

SUPPLEMENTARY INFORMATION: NMFS manages the groundfish fishery in the (BSAI) exclusive economic zone according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2018 ITAC of AI Greenland turbot was established as 144 metric tons (mt), the 2018 ITAC of BS sablefish was established as 1,208 mt, the 2018 TAC of BSAI Alaska plaice was established as 16,100 mt, the 2018 ITAC of BSAI northern rockfish was established as 5,185 mt, the 2018 ITAC of BSAI “other flatfish” was established as 3,400 mt, the 2018 TAC of BSAI shortraker rockfish was established as 150 mt, the 2018 ITAC of BSAI sculpins was established as 4,250 mt, the 2018 ITAC of BSAI skates was established as 22,950 mt, and the 2018 TAC of CAI/WAI blackspotted/rougheye rockfish was established as 150 mt by the final 2018 and 2019 harvest specifications for groundfish of the BSAI (83 FR 8365, February 27, 2018 and 83 FR 28169, June 18, 2018). In accordance with § 679.20(a)(3) the Regional Administrator, Alaska Region, NMFS, has reviewed the most current available data and finds that the ITACs for AI Greenland turbot, BS sablefish, BSAI Alaska plaice, BSAI northern rockfish, BSAI “other flatfish,” BSAI shortraker rockfish, BSAI sculpins, BSAI skates, and CAI/WAI blackspotted/rougheye rockfish need to be supplemented from the non-specified reserve to promote efficiency in the utilization of fishery resources in the BSAI and allow fishing operations to continue.

Therefore, in accordance with § 679.20(b)(3), NMFS apportions from the non-specified reserve of groundfish 25 mt to AI Greenland turbot, 55 mt to BS sablefish, 1,460 mt to BSAI Alaska plaice ITAC, 700 mt to BSAI northern rockfish ITAC, 700 mt to BSAI “other flatfish” ITAC, 100 mt to BSAI shortraker rockfish ITAC, 750 mt to BSAI sculpins ITAC, 6,130 mt to BSAI skates ITAC, and 28 mt to the CAI/WAI blackspotted/rougheye rockfish TAC in the BSAI management area. These apportionments are consistent with § 679.20(b)(1)(i) and do not result in overfishing of any target species because the revised ITACs and TACs are equal to or less than the specifications of the acceptable biological catch in the final 2018 and 2019 harvest specifications for groundfish in the BSAI (83 FR 8365, February 27, 2018).

The harvest specification for the 2018 ITACs and TACs included in the harvest specifications for groundfish in the BSAI are revised as follows: 169 mt for AI Greenland turbot, 1,263 mt for BS sablefish, 17,560 mt for BSAI Alaska plaice, 5,885 mt for BSAI northern rockfish, 4,100 mt for BSAI “other flatfish”, 250 mt for BSAI shortraker rockfish, 5,000 mt for BSAI sculpins, 29,080 mt for BSAI skates, and 178 mt for CAI/WAI blackspotted/rougheye rockfish.

Classification

This action responds to the best available information recently obtained from the fishery. The Assistant Administrator for Fisheries, NOAA, (AA) finds good cause to waive the requirement to provide prior notice and opportunity for public comment pursuant to the authority set forth at 5 U.S.C. 553(b)(B) and § 679.20(b)(3)(iii)(A) as such a requirement is impracticable and contrary to the public interest. This requirement is impracticable and contrary to the public interest as it would prevent NMFS from responding to the most recent fisheries data in a timely fashion and would delay the apportionment of the non-specified reserves of groundfish to the AI Greenland turbot, BS sablefish, BSAI Alaska plaice, BSAI northern rockfish, BSAI “other flatfish,” BSAI shortraker rockfish, BSAI sculpins, BSAI skates, and CAI/WAI blackspotted/rougheye rockfish in the BSAI. Immediate notification is necessary to allow for the orderly conduct and efficient operation of this fishery, to allow the industry to plan for the fishing season, and to avoid potential disruption to the fishing fleet and processors. NMFS was unable to publish a notice providing time for public comment because the most recent, relevant data only became available as of October 26, 2018.

The AA also finds good cause to waive the 30-day delay in the effective date of this action under 5 U.S.C. 553(d)(3). This finding is based upon the reasons provided above for waiver of prior notice and opportunity for public comment.

Under § 679.20(b)(3)(iii), interested persons are invited to submit written comments on this action (see ADDRESSES) until November 16, 2018.

This action is required by § 679.20 and is exempt from review under Executive Order 12866.

Authority: 16 U.S.C. 1801 et seq.

Dated: October 29, 2018.
Karen H. Abrams,
Acting Director, Office of Sustainable Fisheries, National Marine Fisheries Service.

[FR Doc. 2018-23990 Filed 11-1-18; 8:45 am]

BILLING CODE 3510-22-P